DEPARTMENT OF LABOR

Employment and Training Administration

[TA-W-56,333]

Westpoint Stevens, Inc.; Now Known as Westpoint Home, Inc; Bed Products Division Including On-Site Leased Workers of Action Staffing, a Subdivision of American Services Clemson, SC; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on February 9, 2005, applicable to workers of the WestPoint Stevens, Inc., Bed Products Division, Clemson, South Carolina. The notice was published in the Federal Register on March 9, 2005 (70 FR 11704).

The certification was amended on August 17, 2005 to reflect the new ownership. The notice was published in the Federal Register on September 27, 2005 (70 FR 56494).

At the request of the State agency, the Department reviewed the certification for workers of the subject firm. The workers are engaged in the production of sheets and pillowcases.

New information shows that leased workers of Action Staffing, a subdivision of American Services were employed at the Clemson, South Carolina location of WestPoint Stevens, Inc. now known as WestPoint Home, Inc.

Based on these findings, the Department is amending this certification to include leased workers of Action Staffing, a subdivision of American Services working at WestPoint Stevens, Inc., now known as WestPoint Home, Inc., Clemson, South Carolina.

The intent of the Department's certification is to include all workers of WestPoint Stevens, Inc., now known as WestPoint Home, Inc., Bed Products Division who was adversely affected by increased imports.

The amended notice applicable to TA-W-56,333 is hereby issued as follows:

All workers of WestPoint Stevens, Inc., now known as WestPoint Home, Inc., Bed Products Division, including on-site leased workers of Action Staffing, a subdivision of American Services, Clemson, South Carolina, who became totally or partially separated from employment on or after January 11, 2004, through February 9, 2007, are eligible to apply for adjustment assistance under Section 223 of the Trade Act of 1974, and are also eligible to apply for alternative trade adjustment assistance under Section 246 of the Trade Act of 1974.

Signed at Washington, DC this 3rd day of May 2006.
Elliott S. Kushner,
Certifying Officer, Division of Trade Adjustment Assistance.

[FR Doc. E6-7513 Filed 5-16-06; 8:45 am]

BILLING CODE 4510-30-P